FEDERAL COMMUNICATIONS COMMISSION

47 CFR Part 15

[ET Docket No. 03-122; FCC 05-43]

Unlicensed Devices in the 5 GHz Band

AGENCY: Federal Communications Commission.

ACTION: Final rule.

SUMMARY: This document extends for one year the transition periods for unlicensed National Information Infrastructure (U-NII) equipment operating in the 5.250-5.350 GHz band. This action will allow devices to continue to obtain equipment authorizations and to be marketed under the rules in effect prior to the adoption of the 5 GHz U-NII Report and Order pending the development of measurement procedures for evaluating such devices for compliance with the new rules.

DATES: Effective February 23, 2005.

FOR FURTHER INFORMATION CONTACT: Priya Shrinivasan, 418-7005 or Karen Rackley, 418-2431, Policy and Rules Division, Office of Engineering & Technology.

SUPPLEMENTARY INFORMATION: This is a summary of the Commission's Order, ET Docket No. 03-122, FCC 05-43, adopted February 18, 2005, and released February 23, 2005. The full text of this document is available on the Commission's Internet site at http://www.fcc.gov. It is also available for inspection and copying during regular business hours in the FCC Reference Center (Room CY-A257), 445 12th Street, SW., Washington, DC 20554. The full text of this document also may be purchased from the Commission's duplication contractor, Best Copy and Printing Inc., Portals II, 445 12th St., SW., Room CY-B402, Washington, DC 20554; telephone (202) 488-5300; fax (202) 488-5563; e-mail FCC@BCPIWEB.COM.

Summary of the Order

1. In the 5 GHz U-NII Report and Order, 69 FR 2677, January 20, 2004, the Commission required that any product with the capability to operate in the new spectrum at the 5.470-5.725 GHz band, including equipment designed to operate in both the 5.250-5.350 GHz and 5.470-5.725 GHz bands, must meet all the rules, including the new dynamic frequency selection (DFS) and transmit power control (TPC) requirements, contained in the 5 GHz U-NII Report and Order in accordance with the specified measurement procedures to obtain equipment certification. DFS is a feature that dynamically instructs a transmitter to switch to another channel whenever a particular condition (such as, for example, a threshold value of the prevailing ambient interference level on a channel) is met. Prior to initiating and during a transmission, a U-NII device's DFS feature would monitor the available spectrum in which it could operate for a radar signal. If a signal is detected, the channel associated with the radar signal would either be vacated and/or flagged as unavailable for use by the U-NII device. TPC can generally be defined as a mechanism that regulates a device's transmit power in response to an input signal or a condition (e.g., a command signal is issued by a controller when the received signal falls below a predetermined threshold). In addition, the Commission required that products that operate only in the 5.250-5.350 GHz band also comply with these rules.

2. Transition Period. For devices operating in the 5.250-5.350 GHz band, the Commission provided for a transition period in order to minimize economic hardships on manufacturers. During the transition period, manufacturers are allowed to continue producing and selling existing equipment while modifying their products to meet the new requirements. The Commission adopted a cut-off date of one year from the date of publication of the 5 GHz U-NII Report and Order in the Federal Register (i.e., January 20, 2005) for applications for equipment certification of products that operate only in the 5.250-5.350 GHz band (i.e., equipment designed to operate in only the 5.250-5.350 GHz band could continue to obtain certification without having DFS and TPC, so long as the application for equipment certification was filed prior to the cut-off date of one year). After that time, all devices for which an initial application for equipment certification are filed for U-NII equipment operating in the 5.250-5.350 GHz band must meet the rules adopted in the 5 GHz U-NII Report and Order. In addition, to prevent equipment without DFS and TPC requirements from being imported and marketed indefinitely, the Commission adopted a two-year cut-off date (i.e., January 20, 2006) for the marketing and importation of equipment designed to operate in only the 5.250-5.350 GHz band. Finally, the Commission noted that users who obtained equipment prior to any of the cut-off dates would be able to continue to use that equipment indefinitely.

3. In the Order, the Commission noted that the cut-off date for applications for equipment certification of products without DFS and TPC that operate in only the 5.250-5.350 GHz band is January 20, 2005, one year from the date of publication of the 5 GHz U-NII Report and Order in the Federal Register. However, the industry and the Federal Government have found the implementation of DFS to be more complex than originally envisioned and, as a result, measurement procedures for certifying U-NII devices containing DFS capabilities have not yet been finalized. Further, the Federal Government agencies will likely conduct tests to validate that the testing procedures respond as intended to protect radar systems. All parties are currently working together to reach an agreement and expect that remaining issues will be resolved shortly. The Commission's Laboratory will issue the updated measurement procedures for the certification of U-NII equipment containing DFS and TPC capabilities as soon as possible.

4. New Transition Periods. In order to allow sufficient time for an agreement on DFS implementation between the industry and the Federal Government to be reached and for equipment manufacturers to incorporate DFS into U-NII devices, the Commission extended by one year the cut-off date for applications for certification of U-NII equipment operating without DFS or TPC in the 5.250-5.350 GHz band. Therefore, effective January 20, 2006, all devices for which an initial application for equipment certification is filed for U-NII equipment operating in the 5.250-5.350 GHz band must meet the rules adopted in the 5 GHz U-NII Report and Order. The Commission also extended by one year the two-year cut-off date for marketing and importation of equipment designed to operate in only the 5.250-5.350 GHz band. Therefore, U-NII equipment operating in the 5.250-5.350 GHz band that are imported or marketed on or after January 20, 2007 must comply with the DFS and TPC requirements adopted in the 5 GHz U-NII Report and Order. The Commission noted that users who obtained equipment prior to any of these cut-off dates would be able to continue to use that equipment indefinitely. Finally, because the Commission's action temporarily relieves a restriction, i.e., the cut-off dates for equipment authorizations and the marketing of U-NII equipment in the 5.250-5.350 GHz band, it made the Order effective upon release.

Ordering Clauses

5. The Congressional Review Act (CRA), was addressed in a Report and Order released by the Commission, November 18, 2003, in “In the Matter of Revision of Parts 2 and 15 of the Commission's Rules to permit Unlicensed National Information Infrastructure (U-NII) devices in the 5 GHz band” in this proceeding, FCC 03-287, 69 FR 2677, January 20, 2004. This Order does not change any rules, it only extends the transition period for unlicensed U-NII devices. Therefore, the CRA requirements have already been fulfilled for this rule.

6. Pursuant to sections 4(i), 303(f), and 303(r) of the Communications Act of 1934, as amended, 47 U.S.C. 54(i), 303(f), and 303(r), and Section 553(d) of the Administrative Procedure Act, 5 U.S.C. 553(d), the Order is hereby adopted.

7. Section 15.37(l), 47 CFR is modified, effective upon release of this Order.

List of Subjects in 47 CFR Part 15

Communications equipment, Radio, Reporting and recordkeeping requirements.

Federal Communications Commission.
William F. Caton,
Deputy Secretary.

Rule Change

For the reasons discussed in the preamble, the Federal Communications Commission amends 47 CFR part 15 as follows:

PART 15—RADIO FREQUENCY DEVICES

1. The authority citation for part 15 continues to read as follows:

Authority: 47 U.S.C. 154, 302a, 303, 304, 307, 336 and 544A.

2. Section 15.37 is amended by revising paragraph (l), to read as follows:

§ 15.37 Transition provisions for compliance with the rules.

* * * * *

(l) U-NII equipment operating in the 5.25-5.35 GHz band for which applications for certification are filed on or after January 20, 2006 shall comply with the DFS and TPC requirements specified in § 15.407. U-NII equipment operating in the 5.25-5.35 GHz band that are imported or marketed on or after January 20, 2007 shall comply with the DFS and TPC requirements in § 15.407.

* * * * *

[FR Doc. 05-6813 Filed 4-5-05; 8:45 am]

BILLING CODE 6712-01-P